DEPARTMENT OF ENERGY

Federal Energy Regulatory Commission

Combined Notice of Filings #1

Take notice that the Commission received the following electric corporate filings:

Docket Numbers: EC19-137-000.

Applicants: Sage Solar I LLC, Sage Solar II LLC, Sage Solar III LLC.

Description: Application for Authorization Under Section 203 of the Federal Power Act, et al. of Sage Solar I, LLC, et al.

Filed Date: 9/10/19.

Accession Number: 20190910-5146.

Comments Due: 5 p.m. ET 10/1/19.

Take notice that the Commission received the following exempt wholesale generator filings:

Docket Numbers: EG19-181-000.

Applicants: SR Hazlehurst III, LLC.

Description: Notice of Self-Certification of Exempt Wholesale Generator Status of SR Hazlehurst III, LLC.

Filed Date: 9/11/19.

Accession Number: 20190911-5082.

Comments Due: 5 p.m. ET 10/2/19.

Take notice that the Commission received the following electric rate filings:

Docket Numbers: ER19-1576-002.

Applicants: Duke Energy Progress, LLC, Duke Energy Carolinas, LLC.

Description: Compliance filing: DEP H.1 Formula Rate Substitute. Compliance Filing to be effective 5/15/2019.

Filed Date: 9/11/19.

Accession Number: 20190911-5070.

Comments Due: 5 p.m. ET 10/2/19.

Docket Numbers: ER19-2774-001.

Applicants: Public Service Company of Colorado.

Description: Tariff Amendment: 2019-09-11 Revised LGIP Errata Filing to be effective 12/5/2019.

Filed Date: 9/11/19.

Accession Number: 20190911-5061.

Comments Due: 5 p.m. ET 10/2/19.

Docket Numbers: ER19-2781-000.

Applicants: Midcontinent Independent System Operator, Inc.

Description: Annual Calculation of the Cost of New Entry value (“CONE”) for each Local Resource Zone (“LRZ”) in the MISO Region of Midcontinent Independent System Operator, Inc.

Filed Date: 9/10/19.

Accession Number: 20190910-5150.

Comments Due: 5 p.m. ET 10/1/19.

Docket Numbers: ER19-2782-000.

Applicants: PJM Interconnection, L.L.C.

Description: § 205(d) Rate Filing: Original ISA, SA No. 5461 and Original ICSA, SA No. 5462; Queue No. Y3-092 to be effective 11/10/2019.

Filed Date: 9/11/19.

Accession Number: 20190911-5031.

Comments Due: 5 p.m. ET 10/2/19.

Docket Numbers: ER19-2783-000.

Applicants: PJM Interconnection, L.L.C.

Description: § 205(d) Rate Filing: Amendment to ISA and ICSA, SA Nos. 4696 and 4736; Queue AA2-053/AA2-174 to be effective 6/12/2017.

Filed Date: 9/11/19.

Accession Number: 20190911-5069.

Comments Due: 5 p.m. ET 10/2/19.

Docket Numbers: ER19-2784-000.

Applicants: NorthWestern Corporation.

Description: § 205(d) Rate Filing: SA 884—Agreement to Provide Services with Fagen, Inc. to be effective 9/12/2019.

Filed Date: 9/11/19.

Accession Number: 20190911-5071.

Comments Due: 5 p.m. ET 10/2/19.

Docket Numbers: ER19-2785-000.

Applicants: PJM Interconnection, L.L.C.

Description: § 205(d) Rate Filing: First Revised ISA No. 2142; Queue No. AE2-061 to be effective 8/12/2019.

Filed Date: 9/11/19.

Accession Number: 20190911-5074.

Comments Due: 5 p.m. ET 10/2/19.

Docket Numbers: ER19-2786-000.

Applicants: PacifiCorp.

Description: § 205(d) Rate Filing: Cedar Springs Wind NC-LGIA (Rev 1) to be effective 9/1/2019.

Filed Date: 9/11/19.

Accession Number: 20190911-5085.

Comments Due: 5 p.m. ET 10/2/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2019.
Nathaniel J. Davis, Sr.,
Deputy Secretary.

[FR Doc. 2019-20064 Filed 9-16-19; 8:45 am]

BILLING CODE 6717-01-P